ENVIRONMENTAL PROTECTION AGENCY

[FRL 9750-7; CERCLA-04-2010-3768]

Ellis Road/American Electric Corporation, Jacksonville, Duval County, FL, Notice of Settlement

AGENCY: Environmental Protection Agency.

ACTION: Notice of settlement.

SUMMARY: Under the Comprehensive Environmental Response, Compensation and Liability Act (CERCLA), the United States Environmental Protection Agency has entered into a settlement to conduct sampling, perform a clean-up and compromise cost with over 80 settling parties at the Ellis Road/American Electric Corporation Superfund Site located in Jacksonville, Duval County, Florida.

DATES: The Agency will consider public comments on the settlement until December 10, 2012. The Agency will consider all comments received and may modify or withdraw its consent to the settlement if comments received disclose facts or considerations which indicate that the settlement is inappropriate, improper, or inadequate.

ADDRESSES: Copies of the settlement are available from Ms. Paula V. Painter. Submit your comments by Site name Ellis Road/American Electric Corporation Site by one of the following methods:

• www.epa.gov/region4/superfund/programs/enforcement/enforcement.html.

• Email. Painter.Paula@epa.gov.

• U.S. Environmental Protection Agency, 61 Forsyth Street SW., Atlanta, Georgia 30303.

FOR FURTHER INFORMATION CONTACT: Paula V. Painter at 404/562-8887.

Dated: October 18, 2012.
Anita L. Davis,
Chief, Superfund Enforcement & Information Management Branch, Superfund Division.

[FR Doc. 2012-27321 Filed 11-7-12; 8:45 am]

BILLING CODE 6560-50-P